DEPARTMENT OF AGRICULTURE

Agricultural Marketing Service

[Docket No. FV03-985-4NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for a currently approved information collection for the Marketing Order Regulating the Handling of Spearmint Oil Produced in the Far West, M.O. No. 985.

DATES: Comments on this notice must be received by August 29, 2003.

FOR FURTHER INFORMATION CONTACT: Caroline C. Thorpe, Marketing Specialist, Marketing Order Administration Branch, Fruit and Vegetable Programs, AMS, USDA, 1400 Independence Avenue SW., Stop 0237, Washington, DC 20250-0237; Tel: (202) 720-8139, Fax: (202) 720-8938, or E-mail: moab.docketclerk@usda.gov. All comments should reference the docket number and the date and page number of this issue of the Federal Register and will be made available for public inspection in the Office of the Docket Clerk during regular business hours, or can be viewed at: http://www.ams.usda.gov/fv/moab.html.

Small businesses may request information on this notice by contacting Jay Guerber, Regulatory Fairness Representative, Marketing Order Administration Branch, Fruit and Vegetable Programs, AMS, USDA, 1400 Independence Avenue SW., Stop 0237, Washington, DC, 20250-0237; telephone (202) 720-2491, Fax: (202) 720-8938, or e-mail: Jay.Guerber@usda.gov.

SUPPLEMENTARY INFORMATION Title: Marketing Order Regulating the Handling of Spearmint Oil Produced in the Far West, M.O. No. 985.

OMB Number: 0581-0065.

Expiration Date of Approval: February 29, 2004.

Type of Request: Extension and revision of a currently approved information collection.

Abstract: Marketing order programs provide an opportunity for producers of fresh fruits, vegetables and specialty crops, in a specified production area, to work together to solve marketing problems that cannot be solved individually. Order regulations help ensure adequate supplies of high quality product and adequate returns to producers. Under the Agricultural Marketing Agreement Act of 1937 (Act), as amended (7 U.S.C. 601-674), industries enter into marketing order programs. The Secretary of Agriculture is authorized to oversee the order operations and issue regulations recommended by a committee of representatives from each commodity industry.

The information collection requirements in this request are essential to carry out the intent of the Act and to administer the program, which has operated since 1980.

The Far West spearmint marketing order regulates the handling of spearmint oil produced in the Far West (Washington, Idaho, Oregon, and designated parts of Nevada and Utah), hereinafter referred to as the “order.” The order authorizes the issuance of allotment provisions for producers and regulates the quantities of spearmint oil handled. The order also has research and development authority.

The order, and rules and regulations issued thereunder, authorize the Spearmint Oil Administrative Committee (Committee), the agency responsible for local administration of the order, to require handlers and producers to submit certain information regarding spearmint production. Much of this information is compiled in aggregate and provided to the industry to assist in marketing decisions. Forms are utilized throughout the year. The marketing year for the order is June 1 through May 31, with production occurring in the months of June through September.

The Committee has developed forms which must be filed by handlers to provide information to the Committee relating to spearmint production volume, shipments, dispositions, and other information as may be needed to effectively carry out the purpose of the Act and order. Producers also provide certain production information to the Committee. Another form must be submitted to the Secretary by each nominee who wishes to serve on the Committee. The nominee would provide information showing why he or she is qualified to serve on the Committee. Two ballot forms may be used in referenda conducted by the Secretary. One would ascertain whether producers support continuation of the order. Another ballot may be used to determine whether producers support amendments to the order. If the order is amended, handlers would be asked to sign an agreement to indicate their willingness to abide by the new or amended provisions of the order.

The forms covered under this information collection require the minimum information necessary to effectively carry out the requirements of the order. Their use is necessary to fulfill the intent of the Act as expressed in the order, and the rules and regulations issued under the order.

The information collected is used only by authorized representatives of the USDA, including AMS, Fruit and Vegetable Programs' regional and headquarters staff, and authorized employees of the Committee. Authorized Committee employees and the industry are the primary users of the information, and AMS is the secondary user.

Estimate of Burden: The public reporting burden for this collection of information is estimated to average .12 hours (7 minutes) per response.

Respondents: Far West Spearmint producers and handlers and two public members in the production area.

Estimated Number of Respondents: 195.

Estimated Number of Responses per Respondent: 6.

Estimated Total Annual Burden on Respondents: 142 hours.

Comments: Comments are invited on: (1) Whether the proposed collection of the information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference OMB No. 0581-0065 and the Spearmint Marketing Order No. 985, and be mailed to Docket Clerk, Fruit and Vegetable Programs, AMS, USDA, 1400 Independence Avenue, Washington, DC 20250-0237; Fax (202) 720-8938; or E-mail: moab.docketclerk@usda.gov. Comments should reference the docket number and the date and page number of this issue of the Federal Register. All comments received will be available for public inspection in the Office of the Docket Clerk during regular USDA business hours at 1400 Independence Ave., SW., Washington, DC 20250. All comments should reference the docket number and the date and page number of this issue of the Federal Register and will be made available for public inspection in the Office of the Docket Clerk during regular business hours, or can be viewed at: http://www.ams.usda.gov/fv/moab.html.

All responses to this notice will be summarized and included in the request for OMB approval. All comments will also become a matter of public record.

Dated: June 25, 2003.
A.J. Yates,
Administrator, Agricultural Marketing Service.

[FR Doc. 03-16456 Filed 6-27-03; 8:45 am]

BILLING CODE 3410-02-P